FEDERAL COMMUNICATIONS COMMISSION

Notice of Public Information Collection(s) Being Submitted for Review to the Office of Management and Budget

May 16, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 1, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov. If you would like to obtain or view a copy of this new or revised information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0800.

Title: FCC Wireless Telecommunications Bureau Application for Assignment of Authorization or Transfer of Control.

Form No.: FCC Form 603.

Type of Review: Revision of a currently approved collection.

Respondents: Individuals or households; business or other for-profit, not-for-profit institutions, and state, local or tribal government.

Number of Respondents: 32,151.

Estimated Time Per Response: 1.75 hours.

Frequency of Response: On occasion reporting requirement and recordkeeping requirement.

Total Annual Burden: 36,171 hours.

Total Annual Cost: $7,073,395.

Privacy Act Impact Assessment: Yes.

Needs and Uses: The Commission adopted and released a Second Report and Order in WT Docket No. 00-230, FCC 04-167, which revised the FCC Form 603 to include: (1) The date an involuntary assignment or transfer occurred; (2) the date an assignment or transfer for a post notification is filed under the Commission's forbearance procedure; (3) if the filing involves a partial assignment of site-based license(s); (4) if the assignment or transfer was accomplished by reorganization, liquidation or transfer of stock or other ownership interests; (5) if the application involving licenses that were originally awarded with bidding credits within the last five years; (6) if the application involving licenses that were originally subject to the Commission's installment payment plan; (7) if the application involving licenses that were originally granted pursuant to closed bidding within the last five years; (8) competitive related information; (9) if the requested facilities to be used to provide multichannel video programming in the Broadband Radio Service and Educational Broadband Service; (10) type of applicant for the Assignor/Licensee; (11) Assignor/Licensee contact representative; (12) type of applicant for the transferor; (13) transferor contact representative; (14) ownership disclosure information; (15) bidding credit information on Schedule A; (16) closed bidding information on Schedule A; and (17) Census population figures retrieved from year 1990 or 2000 on Schedule B.

The FCC uses the information to determine whether the applicant is legally, technically, and financially qualified to obtain a license. Without such information, the Commission cannot determine whether to issue a license to the applicants that provide telecommunications services to the public, and therefore, fulfill its statutory responsibilities in accordance with the Communications Act of 1934, as amended. Information provided on this form will also be used to update the Commission database and to provide for proper use of the frequency spectrum.

Federal Communications Commission.
Marlene H. Dortch,
Secretary.

[FR Doc. 05-10562 Filed 5-31-05; 8:45 am]

BILLING CODE 6712-01-P